COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add products to the Procurement List that will be furnished by nonprofit agencies employing persons who are blind or have other severe disabilities, and deletes products and services previously furnished by such agencies.

DATES: Comments must be received on or before December 30, 2013.

ADDRESSES: Committee for Purchase From People Who Are Blind or Severely Disabled, 1401 S. Clark Street, Suite 10800, Arlington, Virginia 22202-4149.

For Further Information or To Submit Comments Contact: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

The following products are proposed for addition to the Procurement List for production by the nonprofit agencies listed:

Products

Jackets, Intermediate Weather Outer Layer (IWOL), Layer 6, Army, (FREE), Army, OCP

NSN: 8415-01-583-9470—XSS

NSN: 8415-01-583-9471—XSR

NSN: 8415-01-583-9474—XSL

NSN: 8415-01-583-9479—SS

NSN: 8415-01-583-9480—SR

NSN: 8415-01-583-9483—SL

NSN: 8415-01-583-9485—MS

NSN: 8415-01-583-9488—MR

NSN: 8415-01-583-9445—ML

NSN: 8415-01-583-9447—LS

NSN: 8415-01-583-9449—LR

NSN: 8415-01-583-9450—LL

NSN: 8415-01-583-9451—XLS

NSN: 8415-01-583-9453—XLR

NSN: 8415-01-583-9454—XLL

NSN: 8415-01-583-9455—XXLS

NSN: 8415-01-583-9456—XXLR

NSN: 8415-01-583-9458—XXLL

NPA: Winston-Salem Industries for the Blind, Inc., Winston-Salem, NC

Contracting Activity: DEPT OF THE ARMY, W6QK ACC-APG NATICK, MA

COVERAGE: C-List for 100% of the requirement of the U.S. Army, as aggregated by the Defense Logistics Agency Troop Support, Philadelphia, PA.

Trousers, Intermediate Weather Outer Layer (IWOL), Layer 6, (FREE), Army, OCP

NSN: 8415-01-584-1635—XSS

NSN: 8415-01-584-1637—XSR

NSN: 8415-01-584-1639—XSL

NSN: 8415-01-584-1640—SS

NSN: 8415-01-584-1641—SR

NSN: 8415-01-584-1642—SL

NSN: 8415-01-584-1643—MS

NSN: 8415-01-584-1644—MR

NSN: 8415-01-584-1645—ML

NSN: 8415-01-584-1648—LS

NSN: 8415-01-584-1649—LR

NSN: 8415-01-584-1654—LL

NSN: 8415-01-584-1655—XLS

NSN: 8415-01-584-1656—XLR

NSN: 8415-01-584-1663—XLL

NSN: 8415-01-584-1665—XXLS

NSN: 8415-01-584-1672—XXLR

NSN: 8415-01-584-1674—XXLL

NPA: San Antonio Lighthouse for the Blind, San Antonio, TX

Contracting Activity: DEPT OF THE ARMY, W6QK ACC-APG NATICK, MA

COVERAGE: C-List for 100% of the requirement of the U.S. Army, as aggregated by the Defense Logistics Agency Troop Support, Philadelphia, PA.

NSN: 8950-01-E62-3516—Allspice, Ground, 6/16 oz. Bottles

NSN: 8950-01-E62-3528—Cloves, Ground, 6/16 oz. Bottles

NSN: 8950-01-E62-3532—Poppy Seed, Whole, 6/20 oz. Bottles

NSN: 8950-01-E62-3508—Rosemary Leaves, Ground, 6/11 oz. Bottles

NSN: 8950-01-E62-3524—Caribbean Jerk Seasoning Blend, 6/18 oz. Bottles

NSN: 8950-01-E62-3520—Chives, Dehydrated, Chopped, 6/1.35 oz. Bottles

NSN: 8950-01-E62-3526—Chinese 5 Spice, 6/16 oz. Bottles

NSN: 8950-01-E62-3510—Cilantro, Freeze Dried, 6/3.75 oz. Bottles

NSN: 8950-01-E62-3530—Tarragon, Whole, 6/3.5 oz. Bottles

NSN: 8950-01-E62-3512—Sage, Rubbed, 6/6 oz. Bottles

NSN: 8950-01-E62-3514—Rosemary Leaves, Whole, 6/6 oz. Bottles

NSN: 8950-01-E62-3518—Marjoram, Ground, 6/11 oz. Bottles

NSN: 8950-01-E62-3522—Garlic and Herb Seasoning, 6/18 oz. Bottles

NSN: 8950-01-E62-3506—Fennel Seed, Whole, 6/14 oz. Bottles

NPA: CDS Monarch, Webster, NY

Contracting Activity: DEFENSE LOGISTICS AGENCY TROOP SUPPORT, PHILADELPHIA, PA

COVERAGE: C-List for 100% of the requirement of the Department of Defense, as aggregated by the Defense Logistics Agency Troop Support, Philadelphia, PA.

Blank Media Discs, CD-R, White, Thermal Printable, 52x Speed, 80Min/700MB, 50 Pack Spindle

NSN: 7045-00-NIB-0386

NPA: North Central Sight Services, Inc., Williamsport, PA

Contracting Activity: DEFENSE LOGISTICS AGENCY TROOP SUPPORT, PHILADELPHIA, PA

COVERAGE: A-List for the Total Government Requirement as aggregated by the Defense Logistics Agency, Philadelphia, PA.

Make-to-Order Medical Kit

NSN: 6545-00-NIB-0114

NPAs: National Industries for the Blind, Alexandria, VA (Prime Contractor)

L.C. Industries for the Blind, Inc., Durham, NC

Contracting Activity: DEFENSE LOGISTICS AGENCY TROOP SUPPORT MEDICAL DIRECTORATE, PHILADELPHIA, PA

COVERAGE: C-List for the requirements of the Department of Defense as aggregated by the Defense Logistics Agency Troop Support Medical Directorate.

Additional Information: The DOD requirement for Make-to-Order (MTO) Medical Kits is being proposed for addition to the Procurement List. If approved, AbilityOne Program nonprofit agency(ies) will be designated to provide MTO Medical Kits that are specific to the needs of DLA TS Medical Supply Operations customers. MTO Medical Kits are defined as kits which are built only after receipt of a customer requisition, are customized for the customer and include shipment of the end-item. These medical kits shall consist of medical and non-medical material and equipment components, such as bandages, instruments, pharmaceuticals, portable bags, chests, etc., that may be obtained from AbilityOne and/or a wide range of commercial sources. The Government reserves the right to move MTO Medical Kits to a Make-to-Stock Kit. A Make-to-Stock kit is defined as a kit that is put into a DLA stock location after the kit has been completely assembled to be managed as a DLA item of supply. Addition of MTO Medical Kits to the Procurement List mandates that DLA TS Medical Supply Operations offer the first opportunity to provide the MTO Medical Kits to the AbilityOne nonprofit agency(ies); after having received an offer of an MTO Medical Kit opportunity, the AbilityOne Program nonprofit agency(ies) may accept or reject a requirement/offer. The AbilityOne nonprofit agency(ies) will offer government Distribution and Pricing Agreements (DAPA) pricing or better for components in the MTO Medical Kits. DLA TS Medical Supply Operations will make a fair and reasonable price determination upon receipt of each price proposed by AbilityOne nonprofit agency(ies) to provide a specific MTO Medical Kit.

Deletions

The following products and services are proposed for deletion from the Procurement List:

Products

Stamp Pad Ink

NSN: 7510-01-316-7516—Refill Ink—Black 2 oz. roll-on

NPA: Arbor Products, Inc., Houston, TX

Contracting Activity: GENERAL SERVICES ADMINISTRATION, NEW YORK, NY

Paprika, Ground

NSN: 8950-01-079-6942

Garlic Powder

NSN: 8950-01-254-2691

Spices, Group 1 and 2

NSN: 8950-00-NSH-0205—Pepper, Black, Ground, Restaurant Grind, 5 lb.

NPA: CDS Monarch, Webster, NY

Contracting Activity: DEFENSE LOGISTICS AGENCY TROOP SUPPORT, PHILADELPHIA, PA

Services

Service Types/Location: Grounds Maintenance, Janitorial Service, William Jefferson Clinton Birthplace Home NHS, 117 S. Hervey St., Hope, AR.

NPA: Rainbow of Challenges, Inc., Hope, AR

Contracting Activity: NATIONAL PARK SERVICE, MWR REGIONAL CONTRACTING, OMAHA, NE

Barry S. Lineback,
Director, Business Operations.

[FR Doc. 2013-28649 Filed 11-27-13; 8:45 am]

BILLING CODE 6353-01-P